DEPARTMENT OF JUSTICE

Notice of Lodging of Proposed Consent Decree

In accordance with Departmental Policy, 28 CFR 50.7, notice is hereby given that a proposed Consent Decree in United States v. Gizella Pozsgai, No. 88-6545 (E.D. Pa.) was lodged with the United States District Court for the Eastern District of Pennsylvania on October 14, 2022.

This proposed Consent Decree concerns a complaint filed by the United States against Defendants Gizella Pozsgai and John Pozsgai (John Pozsgai is now deceased), pursuant to Section 301(a) of the Clean Water Act, 33 U.S.C. 1311(a), to obtain injunctive relief from and impose civil penalties against the Defendants for violating the Clean Water Act by discharging pollutants without a permit into waters of the United States. The District Court entered final judgment on January 8, 1990, but certain obligations under the judgment and subsequent court orders remain outstanding. The proposed Consent Decree resolves these outstanding obligations by requiring non-party Britton Industries, Inc., an owner of an adjacent property that has entered into a purchase agreement for the Pozsgai property, to restore a significant portion of the impacted areas and to protect surrounding woodlands.

The Department of Justice will accept written comments relating to this proposed Consent Decree for thirty (30) days from the date of publication of this Notice. Please address comments to Landon Y. Jones, Assistant United States Attorney, 615 Chestnut Street, Suite 1250, Philadelphia, PA 19106, pubcomment_eds.enrd@usdoj.gov, and refer to United States v. Gizella Pozsgai, No. 88-6545 (E.D. Pa.), DJ No. 90-5-1-1-17910.

The proposed Consent Decree may be examined at the Clerk's Office, United States District Court for the Eastern District of Pennsylvania, 601 Market Street, Philadelphia, PA 19106. In addition, the proposed Consent Decree may be examined electronically at https://www.justice.gov/enrd/consent-decrees.

Cherie Rogers,
Assistant Section Chief, Environmental Defense Section, Environment and Natural Resources Division.

[FR Doc. 2022-22743 Filed 10-19-22; 8:45 am]

BILLING CODE P